DEPARTMENT OF HEALTH AND HUMAN SERVICES

National Institutes of Health

Submission for OMB Review; 30-Day Comment Request; Federal COVID Response—Audience Feedback To Inform Ongoing Messaging and Strategies for “Combat COVID”

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Mikia P. Currie, Office of Policy for Extramural Research Administration, 6705 Rockledge Drive, Suite 350, Bethesda, Maryland 20892, or call a non-toll-free number (301) 435-0941 or Email your request, including your address to: ProjectClearanceBranch@mail.nih.gov.

SUPPLEMENTARY INFORMATION: This proposed information collection was previously published in the Federal Register on September 7, 2021, page 50143 (86 FR 50143) and allowed 60 days for public comment. No public comments were received. The purpose of this notice is to allow an additional 30 days for public comment. The National Institutes of Health may not conduct or sponsor, and the respondent is not required to respond to, any information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Audience Feedback to Inform Ongoing Messaging and Strategies for “Combat COVID,” OMB #0925-0769, exp., date 12/31/2021, EXTENSION National Institutes of Health (NIH).

Need and Use of Information Collection: The purpose of the information collection is to collect routine feedback from the Combat COVID Initiative's two target audiences (the general public and healthcare providers) to identify evolving needs and better disseminate relevant information as it relates to COVID-19 treatment and Accelerating COVID-19 Therapeutic Interventions and Vaccines (ACTIV) clinical trial resources, specifically. Data collected will be used to inform the development and broad dissemination of Combat COVID resources, including new or enhanced message and material concepts (e.g., social media ads, digital display ads, out-of-home ads), and/or web pages (combatcovid.hhs.gov). Because the COVID-19 treatment landscape continues to evolve, new evidence-based information continues to come to the forefront, and audience needs continue to change, it is critical for the Federal COVID Response (FCR) Team to collect quick audience feedback from the general public (especially from groups who have not historically been well-represented in clinical trials) and healthcare providers to identify these evolving needs. By understanding target audience needs, the FCR team will be able to properly develop and broadly disseminate relevant COVID-19 treatment and ACTIV clinical trial resources. A change request was recently submitted to update the recall stimuli (still images, audio, and video or animated images) for questions about exposure to the Combat COVID message and materials. It also removed questions that are no longer relevant and replaced them with more relevant questions about the latest COVID-19 treatment options and clinical trials.

OMB approval is requested for 1 year. There are no costs to respondents other than their time. The total estimated annualized burden hours are 3,528.

Estimated Annualized Burden Hours
Form name | Number of respondents | Number of responses per respondent | Average time per response (in hours) | Total annual burden hours
Consumer Audience Feedback Team Screener | 120 | 1 | 5/60 | 10
HCP Audience Feedback Team Screener | 40 | 1 | 5/60 | 3
Consumer Audience Feedback Activity | 60 | 8 | 1 | 480
HCP Audience Feedback Activity | 20 | 8 | 1 | 160
Benchmark & Follow-Up Web Surveys—Consumer Audience | 2,000 | 5 | 15/60 | 2,500
Benchmark & Follow-Up Web Survey—HCP Audience | 300 | 5 | 15/60 | 375
Total | 2,540 | 12,300 |  | 3,528

Dated: November 16, 2021.
Lawrence A. Tabak,
Principal Deputy Director, National Institutes of Health.

[FR Doc. 2021-25413 Filed 11-19-21; 8:45 am]

BILLING CODE 4140-01-P